NUCLEAR REGULATORY COMMISSION

[Docket Nos. 50-275 AND 50-323]

Pacific Gas and Electric Company; Notice of Partial Withdrawal of Application for Amendments to Facility Operating Licenses

The U.S. Nuclear Regulatory Commission (the Commission) has granted the request of Pacific Gas and Electric Company (the licensee) to partially withdraw its May 29, 2003, application for proposed amendments to Facility Operating License Nos. DPR-80 and DPR-82 for the Diablo Canyon Power Plant, Unit Nos. 1 and 2, respectively, located in San Luis Obispo County, California.

The proposed amendments would modify several surveillance requirements (SRs) in Technical Specifications (TSs) 3.8.1 and 3.8.4 on alternating current and direct current sources, respectively, for plant operation. The revised SRs would have notes deleted or modified to allow the SRs to be performed, or partially performed, in reactor modes that are currently not allowed by the TSs. The current SRs are not allowed to be performed in Modes 1 and 2. Several of the current SRs also cannot be performed in Modes 3 and 4.

The Commission had previously issued a Notice of Consideration of Issuance of Amendment published in the Federal Register on July 8, 2003 (68 FR 40715). However, by letter dated May 7, 2004, the licensee partially withdrew that portion of the amendment request pertaining to the proposed changes to TS 3.8.4.

For further details with respect to this action, see the application for amendments dated May 29, 2003, and the licensee's letter dated May 7, 2004, which partially withdrew the application for license amendments. Documents may be examined, and/or copied for a fee, at the NRC's Public Document Room (PDR), located at One White Flint North, Public File Area O1 F21, 11555 Rockville Pike (first floor), Rockville, Maryland. Publicly available records will be accessible electronically from the Agencywide Documents Access and Management Systems (ADAMS) Public Electronic Reading Room on the internet at the NRC Web site, http://www.nrc.gov/reading-rm/adams/html. Persons who do not have access to ADAMS or who encounter problems in accessing the documents located in ADAMS, should contact the NRC PDR Reference staff by telephone at 1-800-397-4209, or 301-415-4737 or by e-mail to pdr@nrc.gov.

Dated at Rockville, Maryland, this 28th day of September 2004.
For the Nuclear Regulatory Commission.
Jack N. Donohew,
Project Manager, Section 2, Project Directorate IV, Division of Licensing Project Management, Office of Nuclear Reactor Regulation.

[FR Doc. 04-22401 Filed 10-5-04; 8:45 am]

BILLING CODE 7590-01-P